DEPARTMENT OF AGRICULTURE

Federal Crop Insurance Corporation

7 CFR Part 457

[Docket ID FCIC-21-0002]

RIN 0563-AC73

Common Crop Insurance Regulations; Small Grains Crop Insurance Provisions; Corrections

AGENCY: Federal Crop Insurance Corporation, U.S. Department of Agriculture (USDA).

ACTION: Correcting Amendment.

SUMMARY: On June 25, 2021, the Federal Crop Insurance Corporation revised the Common Crop Insurance Regulations; Small Grains Crop Insurance Provisions. That final rule included a typographical error in an amendatory instruction resulting in change that could not be made in the Code of Federal Regulations (CFR). This document makes those corrections.

DATES: Effective date: July 22, 2021.

FOR FURTHER INFORMATION CONTACT: Francie Tolle; telephone (816) 926-7730; email francie.tolle@usda.gov. Persons with disabilities who require alternative means of communication should contact the USDA Target Center at (202) 720-2600 or 844-433-2774.

SUPPLEMENTARY INFORMATION:

Background

The Small Grains Crop Insurance Provisions in 7 CFR 457.101 were revised by a final rule published in the Federal Register on June 25, 2021 (86 FR 33485-33491). This document makes the changes that were not incorporated, when the other changes in the final rule were made in the CFR, due to a typographical error. There was an incorrect reference in the amendatory language that referenced paragraphs (c)(2)(v) introductory text and (c)(2)(v)(A), (B), (D), and (E) in section 7 of the small grains crop insurance provisions. Section 7 does not have a paragraph (c). The correct references are paragraphs (a)(2)(v) introductory text and (a)(2)(v)(A), (B), (D), and (E). This document makes the corrections to revise those paragraphs in paragraph (a)(2)(v) as intended by the final rule.

List of Subjects in 7 CFR Part 457

Acreage allotments, Crop insurance, Reporting and recordkeeping requirements.

Accordingly, 7 CFR part 457 is corrected by making the following amendments:

PART 457—COMMON CROP INSURANCE REGULATIONS

1. The authority citation for part 457 continues to read as follows:

Authority: 7 U.S.C. 1506(l), 1506(o).

2. In § 457.101, in section 7, revise paragraphs (a)(2)(v) introductory text and (a)(2)(v)(A), (B), (D), and (E) to read as follows:

§ 457.101 Small grains crop insurance provisions.

* * * * *

7. Insurance Period.

* * * * *

(a) * * *

(2) * * *

(v) Whenever the Special Provisions designate only a spring type, any winter barley, oat, or wheat acreage will not be insured unless you request such coverage on or before the spring sales closing date, and we inspect and give written confirmation that the acreage has an adequate stand in the spring to produce the yield used to determine your production guarantee. However, if we fail to inspect the acreage by the spring final planting date, insurance will attach as specified in section 7(a)(2)(v)(C).

(A) Your request for coverage must include the location and number of acres of winter barley, oats, or wheat.

(B) The winter barley, oats, or wheat will be insured as a spring type for the purpose of the production guarantee, premium, projected price, and harvest price, if applicable.

* * * * *

(D) Any such winter barley, oats, or wheat acreage that is damaged after it is accepted for insurance but before the spring final planting date, to the extent that producers in the area would normally not further care for the crop, must be replanted to a spring type of the insured crop unless we agree it is not practical to replant.

(E) If winter-planted acreage is not to be insured it must be recorded on the acreage report as uninsured winter-planted acreage.

* * * * *

Richard Flournoy,
Acting Manager, Federal Crop Insurance Corporation.

[FR Doc. 2021-15587 Filed 7-21-21; 8:45 am]

BILLING CODE 3410-08-P